COMMISSION ON CIVIL RIGHTS

Notice of Public Meeting of the Minnesota Advisory Committee; Cancellation

AGENCY: Commission on Civil Rights.

ACTION: Notice; cancellation of briefing.

SUMMARY: The Commission on Civil Rights published a notice in the Federal Register concerning a briefing of the Minnesota Advisory Committee. The briefing, scheduled for Friday, November 10, 2023, at 1:00 p.m. CT, has been cancelled. The notice is in the Federal Register on Thursday, September 14, 2023, in FR Document Number 2023-19915 on page 63063.

FOR FURTHER INFORMATION CONTACT: Liliana Schiller, Support Services Specialist, at lschiller@usccr.gov.

Dated: September 28, 2023.
David Mussatt,
Supervisory Chief, Regional Programs Unit.

[FR Doc. 2023-21911 Filed 10-3-23; 8:45 am]

BILLING CODE P